DEPARTMENT OF ENERGY

Federal Energy Regulatory Commission

Combined Notice of Filings #1

Take notice that the Commission received the following electric corporate filings:

Docket Numbers: EC23-41-000.

Applicants: Rhode Island State Energy Center, LP, EGCO RISEC II, LLC.

Description: Joint Application for Authorization Under Section 203 of the Federal Power Act of Rhode Island State Energy Center, LP.

Filed Date: 12/14/22.

Accession Number: 20221214-5243.

Comment Date: 5 p.m. ET 1/30/23.

Docket Numbers: EC23-42-000.

Applicants: Talen Energy Supply, LLC.

Description: Joint Application for Authorization Under Section 203 of the Federal Power Act of Talen Energy Supply, LLC.

Filed Date: 12/15/22.

Accession Number: 20221215-5225.

Comment Date: 5 p.m. ET 1/30/23.

Take notice that the Commission received the following electric rate filings:

Docket Numbers: ER10-2435-021.

Applicants: Camden Plant Holdings, L.L.C.

Description: Compliance filing: Camden Plant Holding, L.L.C. submits tariff filing per 35: Informational Filing Regarding Upstream Transfer of Ownership to be effective N/A.

Filed Date: 12/19/22.

Accession Number: 20221219-5057.

Comment Date: 5 p.m. ET 1/9/23.

Docket Numbers: ER15-704-028.

Applicants: Pacific Gas and Electric Company.

Description: Compliance filing: CCSF Compliance Filing October 2022 Order on Remand (SA 275) to be effective 7/1/2015.

Filed Date: 12/19/22.

Accession Number: 20221219-5154.

Comment Date: 5 p.m. ET 1/9/23.

Docket Numbers: ER15-704-029.

Applicants: Pacific Gas and Electric Company.

Description: Compliance filing: CCSF Compliance Filing October 2022 Order on Remand (SA 275) to be effective 7/23/2015.

Filed Date: 12/19/22.

Accession Number: 20221219-5187.

Comment Date: 5 p.m. ET 1/9/23.

Docket Numbers: ER15-1872-002.

Applicants: Montour, LLC.

Description: Compliance filing: Informational Filing Regarding Upstream Transfer of Ownership to be effective N/A.

Filed Date: 12/19/22.

Accession Number: 20221219-5098.

Comment Date: 5 p.m. ET 1/9/23.

Docket Numbers: ER16-2440-004.

Applicants: Brandon Shores LLC.

Description: Compliance filing: Informational Filing Regarding Upstream Transfer of Ownership to be effective N/A.

Filed Date: 12/19/22.

Accession Number: 20221219-5050.

Comment Date: 5 p.m. ET 1/9/23.

Docket Numbers: ER17-1972-001; ER23-246-002; ER23-256-002; ER12-2337-001; ER12-2338-001; ER12-2349-001; ER18-1343-014; ER19-2684-002; ER22-2042-001.

Applicants: Jackpot Holdings, LLC, Palmer Solar, LLC, Carolina Solar Power, LLC, Kit Carson Windpower, LLC, Top of the World Wind Energy, LLC, Three Buttes Windpower, LLC, Silver Sage Windpower, LLC, Happy Jack Windpower, LLC, Duke Energy Renewable Services, LLC.

Description: Triennial Market Power Analysis for Northwest Region of Duke Energy Renewable Services, LLC, et al.

Filed Date: 12/15/22.

Accession Number: 20221215-5229.

Comment Date: 5 p.m. ET 2/13/23.

Docket Numbers: ER17-2175-002.

Applicants: Susquehanna Nuclear, LLC.

Description: Compliance filing: Informational Filing Regarding Upstream Transfer of Ownership to be effective N/A.

Filed Date: 12/19/22.

Accession Number: 20221219-5073.

Comment Date: 5 p.m. ET 1/9/23.

Docket Numbers: ER18-406-003.

Applicants: Brunner Island, LLC.

Description: Compliance filing: Informational Filing Regarding Upstream Transfer of Ownership to be effective N/A.

Filed Date: 12/19/22.

Accession Number: 20221219-5051.

Comment Date: 5 p.m. ET 1/9/23.

Docket Numbers: ER19-378-001.

Applicants: Montour, LLC.

Description: Compliance filing: Informational Filing Regarding Upstream Transfer of Ownership to be effective N/A.

Filed Date: 12/19/22.

Accession Number: 20221219-5068.

Comment Date: 5 p.m. ET 1/9/23.

Docket Numbers: ER19-482-002.

Applicants: LMBE Project Company LLC.

Description: Compliance filing: Informational Filing Regarding Upstream Transfer of Ownership to be effective N/A.

Filed Date: 12/19/22.

Accession Number: 20221219-5062.

Comment Date: 5 p.m. ET 1/9/23.

Docket Numbers: ER20-681-008.

Applicants: Tri-State Generation and Transmission Association, Inc.

Description: Compliance filing: Application for Reauthorization of MBR Authority to be effective 12/17/2022.

Filed Date: 12/16/22.

Accession Number: 20221216-5242.

Comment Date: 5 p.m. ET 1/6/23.

Docket Numbers: ER20-1140-002.

Applicants: H.A. Wagner LLC.

Description: Compliance filing: Informational Filing Regarding Upstream Transfer of Ownership to be effective N/A.

Filed Date: 12/19/22.

Accession Number: 20221219-5060.

Comment Date: 5 p.m. ET 1/9/23.

Docket Numbers: ER20-1298-003.

Applicants: Midcontinent Independent System Operator, Inc.

Description: Compliance filing: 2022-12-19_MidAmerican Order 864 Substitute Compliance to be effective 1/27/2020.

Filed Date: 12/19/22.

Accession Number: 20221219-5170.

Comment Date: 5 p.m. ET 1/9/23.

Docket Numbers: ER20-2642-001.

Applicants: Montour, LLC.

Description: Compliance filing: Informational Filing Regarding Upstream Transfer of Ownership to be effective N/A.

Filed Date: 12/19/22.

Accession Number: 20221219-5072.

Comment Date: 5 p.m. ET 1/9/23.

Docket Numbers: ER22-1365-001.

Applicants: MC Project Company LLC.

Description: Compliance filing: Informational Filing Regarding Upstream Transfer of Ownership to be effective N/A.

Filed Date: 12/19/22.

Accession Number: 20221219-5064.

Comment Date: 5 p.m. ET 1/9/23.

Docket Numbers: ER22-2110-003.

Applicants: PJM Interconnection, L.L.C.

Description: Compliance filing: Interconnection Reform Compliance to be effective 1/3/2023.

Filed Date: 12/19/22.

Accession Number: 20221219-5105.

Comment Date: 5 p.m. ET 1/9/23.

Docket Numbers: ER23-660-000.

Applicants: Pacific Gas and Electric Company.

Description: § 205(d) Rate Filing: Gilroy Energy Center LLC (Lambie) LGIA (TO SA 453) to be effective 12/18/2022.

Filed Date: 12/16/22.

Accession Number: 20221216-5232.

Comment Date: 5 p.m. ET 1/6/23.

Docket Numbers: ER23-661-000.

Applicants: Pacific Gas and Electric Company.

Description: § 205(d) Rate Filing: Goose Haven Energy Center LLC LGIA (TO SA 454) to be effective 12/18/2022.

Filed Date: 12/16/22.

Accession Number: 20221216-5234.

Comment Date: 5 p.m. ET 1/6/23.

Docket Numbers: ER23-662-000.

Applicants: Pacific Gas and Electric Company.

Description: § 205(d) Rate Filing: Creed Energy Center LLC LGIA (TO SA 455) to be effective 12/18/2022.

Filed Date: 12/16/22.

Accession Number: 20221216-5240.

Comment Date: 5 p.m. ET 1/6/23.

Docket Numbers: ER23-663-000.

Applicants: Midcontinent Independent System Operator, Inc.

Description: § 205(d) Rate Filing: 2022-12-19_Revisions to broaden scope of Dispute and Resettlement Time Limits to be effective 2/18/2023.

Filed Date: 12/19/22.

Accession Number: 20221219-5044.

Comment Date: 5 p.m. ET 1/9/23.

Docket Numbers: ER23-664-000.

Applicants: NTUA Generation-Utah, LLC.

Description: Baseline eTariff Filing: Market Based Rate Application with Requests for Status, Waivers, and Expedition to be effective 2/3/2023.

Filed Date: 12/19/22.

Accession Number: 20221219-5104.

Comment Date: 5 p.m. ET 1/9/23.

Docket Numbers: ER23-665-000.

Applicants: Midcontinent Independent System Operator, Inc.

Description: § 205(d) Rate Filing: 2022-12-19_SA 2928 ITCTransmission-Pegasus Wind 4th Rev GIA (J301 J701) to be effective 12/6/2022.

Filed Date: 12/19/22.

Accession Number: 20221219-5119.

Comment Date: 5 p.m. ET 1/9/23.

Docket Numbers: ER23-666-000.

Applicants: Foxhound Solar, LLC.

Description: Baseline eTariff Filing: Market-Based Rate Application to be effective 2/18/2023.

Filed Date: 12/19/22.

Accession Number: 20221219-5146.

Comment Date: 5 p.m. ET 1/9/23.

Docket Numbers: ER23-667-000.

Applicants: Mesquite Solar 1, LLC.

Description: Tariff Amendment: Notices of Cancellation to be effective 2/17/2023.

Filed Date: 12/19/22.

Accession Number: 20221219-5151.

Comment Date: 5 p.m. ET 1/9/23.

Docket Numbers: ER23-668-000.

Applicants: Copper Mountain Solar 1, LLC.

Description: Tariff Amendment: Notices of Cancellation to be effective 2/17/2023.

Filed Date: 12/19/22.

Accession Number: 20221219-5152.

Comment Date: 5 p.m. ET 1/9/23.

Docket Numbers: ER23-669-000.

Applicants: Copper Mountain Solar 2, LLC.

Description: Tariff Amendment: Notices of Cancellation to be effective 2/17/2023.

Filed Date: 12/19/22.

Accession Number: 20221219-5153.

Comment Date: 5 p.m. ET 1/9/23.

Docket Numbers: ER23-670-000.

Applicants: California Independent System Operator Corporation.

Description: § 205(d) Rate Filing: 2022-12-19 Filing of HANA with El Paso Electric Company to be effective 3/1/2023.

Filed Date: 12/19/22.

Accession Number: 20221219-5226.

Comment Date: 5 p.m. ET 1/9/23.

Take notice that the Commission received the following electric securities filings:

Docket Numbers: ES23-18-000.

Applicants: Consumers Energy Company.

Description: Application Under Section 204 of the Federal Power Act for Authorization to Issue Securities of Consumers Energy Company.

Filed Date: 12/16/22.

Accession Number: 20221216-5307.

Comment Date: 5 p.m. ET 1/6/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2022.
Debbie-Anne A. Reese,
Deputy Secretary.

[FR Doc. 2022-27964 Filed 12-22-22; 8:45 am]

BILLING CODE 6717-01-P